DEPARTMENT OF HEALTH AND HUMAN SERVICES

National Institutes of Health

2019 Interagency Autism Coordinating Committee Call for Nominations Announcement

AGENCY: National Institutes of Health, HHS.

ACTION: Notice.

SUMMARY: The Department of Health and Human Services, National Institutes of Health published a Notice in the Federal Register on November 26, 2019, seeking nominations of individuals to serve as non-federal public members on the Interagency Autism Coordinating Committee (IACC). The purpose of this Notice is to provide an extension to allow additional time for the acceptance of nominations to the IACC.

DATES: Nominations have been extended until Friday, February 21, 2020.

ADDRESSES: Nominations are due by Friday February 21, 2020 and may be sent to Dr. Susan Daniels, Director, Office of Autism Research Coordination/NIMH/NIH, 6001 Executive Boulevard, Room 7220, Bethesda, Maryland 20892 by standard or express mail, or via email to IACCPublicInquiries@mail.nih.gov. Confirmation of receipt will be provided. More information about the IACC is available at iacc.hhs.gov.

FOR FURTHER INFORMATION CONTACT: Susan Daniels at 301-827-1437 or email at iaccpublicinquiries@mail.nih.gov.

SUPPLEMENTARY INFORMATION: On November 26, 2019, the Department of Health and Human Services, National Institutes of Health published a Notice in the Federal Register on pages 65165-65166 (84 FR 65165), seeking nominations of individuals to serve as non-federal public members on the Interagency Autism Coordinating Committee (IACC). The closing date for nominations ended on January 17, 2020. The purpose of this notice is to extend acceptance of nominations until February 21, 2020. As specified in the Combating Autism Act of 2006 (Pub. L. 109-416) and reauthorized by the Autism Collaboration, Accountability, Research, Education and Support Act of 2019 (Pub. L. 116-60). The Office of the Secretary has directed the Office of Autism Research Coordination (OARC) of the National Institute of Mental Health, National Institutes of Health to assist the Department in conducting an open nomination process. Appointments of non-federal public members to the committee shall be made by the Secretary of Health and Human Services.

Eligibility Requirements

Nominations of new non-federal public members are encouraged, and current non-federal public members may also be re-nominated to continue to serve if they have served only one term previously, in accordance with the provisions of the Autism CARES Act of 2019. Self-nominations and nominations of other individuals are both permitted. Only one nomination per individual is required. Multiple nominations of the same individual will not increase likelihood of selection. The Secretary may select non-federal public members from the pool of submitted nominations and other sources as needed to meet statutory requirements and to form a balanced committee that represents the diversity within the autism spectrum disorder (ASD) community.

Those eligible for nomination include individuals on the autism spectrum, parents or guardians of individuals with ASD, leaders or representatives of major ASD research, advocacy and service organizations, healthcare and service providers, educators, researchers and other individuals with professional or personal experience with ASD. Nominations of individuals with a variety of disability and support needs, individuals from all U.S. states and territories, and individuals representing diverse populations within the autism community, including all genders and gender identities, cultural, ethnic and racial groups are encouraged. Requests for reasonable accommodation to enable participation on the Committee should be indicated in the nomination submission.

IACC non-federal public members are appointed as special government employees and are required to be U.S. citizens. To serve, they must submit an annual confidential financial disclosure report used to determine conflicts of interest as well as a foreign activities questionnaire. Prohibited foreign activities include holding a position or title with a foreign governmental entity (including certain universities), and from receiving compensation and certain gifts from a foreign government. In accordance with White House Office of Management and Budget guidelines (FR Doc. 2014-19140), federally-registered lobbyists are not eligible. Federal employees may not serve as non-federal public members. IACC non-federal public members may be restricted from serving on other federal advisory committees while serving on the IACC. Male non-federal public members must have signed up for the U.S. Selective Service in order to be eligible.

Responsibilities of Appointed Non-Federal Public Members

As specified in the Committee's authorizing statute (section 399CC of the Public Health Service Act, 42 U.S.C. 280i-2, as amended), the Committee will carry out the following responsibilities: (1) Monitor autism spectrum disorder research, and to the extent practicable, services and support activities, across all relevant Federal departments and agencies, including coordination of Federal activities with respect to autism spectrum disorder; (2) develop a summary of advances in autism spectrum disorder research related to causes, prevention, treatment, early screening, diagnosis or ruling out a diagnosis; interventions, including school and community-based interventions, and access to services and supports for individuals with autism spectrum disorder across the lifespan of such individuals; (3) make recommendations to the Secretary regarding any appropriate changes to such activities, including with respect to the strategic plan; (4) make recommendations to the Secretary regarding public participation in decisions relating to autism spectrum disorder, and the process by which public feedback can be better integrated into such decisions; (5) develop a strategic plan for the conduct of, and support for, autism spectrum disorder research, including, as practicable, for services and supports, for individuals with an autism spectrum disorder across the lifespan of such individuals and the families of such individuals, which shall include (A) proposed budgetary requirements; and (B) recommendations to ensure that autism spectrum disorder research, and services and support activities to the extent practicable, of the Department of Health and Human Services and of other Federal departments and agencies are not unnecessarily duplicative; and (6) submit to Congress and the President: (A) an annual update on the summary of advances; and (B) an annual update to the strategic plan, including any progress made in achieving the goals outlined in such strategic plan.

Committee Composition

In accordance with the Committee's authorizing statute, “Not more than ½, but not fewer than ⅓, of the total membership of the Committee shall be composed of non-Federal public members appointed by the Secretary.”

All non-Federal public members are appointed as Special Government Employees for their service on the IACC, of which:

• At least three such members shall be individuals with a diagnosis of autism spectrum disorder;

• At least three such members shall be parents or legal guardians of an individual with an autism spectrum disorder; and

• At least three such members shall be representatives of leading research, advocacy, and service organizations for individuals with autism spectrum disorder.

The Department strives to ensure that the membership of HHS Federal advisory committees is balanced in terms of points of view represented and the committee's function. Every effort is made to ensure that diverse views and perspectives are represented on HHS Federal advisory committees and, therefore, the Department encourages nominations of qualified candidates of all genders, cultural, ethnic, and racial groups, people with disabilities, and individuals who may belong to other underrepresented groups. The Department also seeks geographic diversity in the composition of the Committee. Appointment to this Committee shall be made without discrimination on the basis of age, race, ethnicity, gender, sexual orientation, disability, and cultural, religious, or socioeconomic status. Requests for reasonable accommodation to enable participation on the Committee should be indicated in the nomination submission.

Member Terms

Non-Federal public members of the Committee “shall serve for a term of 4 years, and may be reappointed for one additional 4-year term. Any member appointed to fill a vacancy for an unexpired term shall be appointed for the remainder of such term. A member [with a valid appointment] may serve after the expiration of the member's term until a successor has been appointed.”

Meetings and Travel

“The Committee shall meet at the call of the chairperson or upon the request of the Secretary. The Committee shall meet not fewer than 2 times each year.”

In the years 2014-2019, the IACC held an average of 4 meetings, 1 workshop and 2 phone conferences per year, including full committee, subcommittee, working and planning group meetings, and workshops. Travel expenses are provided for non-federal public Committee members to facilitate attendance at in-person meetings. Members are expected to be committed to making every effort to attend all full committee meetings and workshops in person and relevant subcommittee, working and planning group meetings by phone. For those who occasionally cannot travel or for individuals with a disability that prevents travel, remote access options are provided.

Submission Instructions and Deadline

Nominations should include a cover letter of no longer than 3 pages describing the candidate's interest in seeking appointment to the IACC, including relevant personal and professional experience with ASD, indication of any membership eligibility requirements met, disability accommodation requests, and an indication of commitment to attend IACC meetings if selected, as well as full contact information and a current resume or curriculum vitae. Up to 2 letters of support are permitted in addition to the nomination, with a page limit of 3 pages per letter. Please do not include other materials unless requested.

Nominations are due by Friday February 21, 2020 and may be sent to Dr. Susan Daniels, Director, Office of Autism Research Coordination/NIMH/NIH, 6001 Executive Boulevard, Room 7220, Bethesda, Maryland 20892 by standard or express mail, or via email to IACCPublicInquiries@mail.nih.gov. Confirmation of receipt will be provided.

More information about the IACC is available at iacc.hhs.gov.

Dated: February 5, 2020.
Susan A. Daniels,
Director, Office of Autism Research Coordination, National Institute of Mental Health, National Institutes of Health.

[FR Doc. 2020-02645 Filed 2-10-20; 8:45 am]

BILLING CODE 4140-01-P